DEPARTMENT OF AGRICULTURE

Forest Service

Manti-La Sal National Forest; Prima Oil and Gas Company Gas Exploration Well, Carbon County, UT; Notice of Intent To Prepare an Environmental Impact Statement

AGENCY: Forest Service, USDA.

ACTION: Notice of intent to prepare an environmental impact statement.

SUMMARY: The Forest Service (FS) and Bureau of Land Management (BLM) will jointly prepare an Environmental Impact Statement (EIS) to document the analysis and disclose the environmental and human effects of authorizing a gas exploration well and associated road access on the Manti-La Sal National Forest. The proposed well, designated the East Clear Creek Federal #22-42, was proposed by Prima Oil and Gas Company (Prima).

Agency Decisions

The BLM is responsible for administration of oil and gas leases under the Mineral Leasing Act of 1920, as amended, and Federal Regulations in 43 CFR part 3100. The BLM Moab Field Office Manager must decide whether or not to approve the Application for Permit to Drill (APD). The Regional Forester, Intermountain Region, must decide whether or not to approve the Surface-Use Plan of Operations and what conditions to require for the protection of non-mineral resources. Forest Service authority is provided under the Federal Onshore Oil and Gas Leasing Reform Act of 1987 and Federal Regulations in 36 CFR part 228, sub-part E.

DATES: Written comments concerning issues and alternatives to be considered and the scope of the analysis described in this notice should be received within 30 days from the date of publication of this notice in the Federal Register.

ADDRESSES: Send written comments to Forest Supervisor, Manti-La Sal National Forest, 599 West Price River Drive, Price, Utah, 84501, ATTN: Karl Boyer.

FOR FURTHER INFORMATION CONTACT: Questions concerning the proposed action and EIS should be addressed to Karl Boyer or Carter Reed, Manti-La Sal National Forest, phone (435) 637-2817.

SUPPLEMENTARY INFORMATION: Prima has submitted an APD in order to obtain approval to conduct gas exploration and reclamation activities in the summer of 2003. All exploration activities would take place on Federal Oil and Gas Lease UTU-77087. One exploration well and associated road construction is proposed. The site would be located approximately 4 miles south-southeast of the town of Clear Creek, via FSR50110, in Section 22, T.14S., R.7E, SLM, Carbon County, UT on Castle Valley Ridge within an Inventoried Roadless Area.

Purpose and Need

The purpose of the exploration program is to assess the economic recoverability of potential gas reserves in the Ferron Sandstone. The exploration drilling program would provide the structural, stratigraphic, and reservoir data necessary for the development of a suitable plan which would allow the company to economically and efficiently recover the gas reserves within Federal Oil and Gas Lease UTU-77087.

Proposed Action

The BLM is proposing to approve the APD. The Forest Service is proposing to approve the Surface Use Plan of Operations (SUPO) with conditions for mitigation of effects to non-mineral resources.

Public Participation

The Forest Service is seeking information and comments from Federal, State, and local agencies as well as individuals and organizations that may be interested in, or affected by, the proposed action. The agency invites written comments regarding potential issues and alternatives related to the proposed action and the area being analyzed. Information received will be used to prepare the Draft and Final EIS and considered in making agency decisions.

The EIS and Record of Decision (ROD) will tier to the Final EIS and ROD for the Manti-La Sal National Forest Land and Resource Management Plan (Forest Plan) 1986, as amended, by the 1994 Record of Decision for Oil and Gas Leasing on Lands Administered by the Manti-La Sal National Forest.

Draft preliminary issues include effects to wildlife, visual quality, roadless character, and dispersed recreation use along the Castle Valley Ridge Trail System.

Agency representatives and other interested people are invited to visit with Forest Service and BLM officials at any time during the EIS process. Two specific time periods are identified for the receipt of formal comments on the analysis. The two comment periods are, (1) during the scoping process, the next 30 days following publication of this Notice in the Federal Register, and (2) during the formal review period of the Draft EIS.

The Draft EIS is estimated to be filed with the Environmental Protection Agency (EPA) and available for public review in October 2002. At that time the EPA will publish an availability notice in the Federal Register. The comment period on the Draft EIS will be 45 days from the date that EPA's notice of availability appears in the Federal Register. The Final EIS is expected to be released in March 2003.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: (Mineral Leasing Act of February 25, 1920 (Pub. L. 66-146, 41 Stat. 437, as amended; 30 U.S.C. 181-287))

Dated: April 19, 2002.
Elaine J. Zieroth,
Forest Supervisor, Mant-La Sal National Forest.

[FR Doc. 02-10464 Filed 5-2-02; 8:45 am]

BILLING CODE 3410-11-M